DEPARTMENT OF AGRICULTURE

Forest Service

Medicine Bow-Routt National Forests and Thunder Basin National Grassland Jackson County, Colorado; Green Ridge Mountain Pine Beetle Analysis; Correction

AGENCY: Forest Service, USDA.

ACTION: Notice of intent to prepare an Environmental Impact Statement; correction.

SUMMARY: The Forest Service published a notice of intent to prepare an environmental impact statement for the Green Ridge Mountain Pine Beetle Analysis in the Federal Register of August 22, 2002. The original notice designated the Regional Forester as the Responsible Official. This correction will designate the Forest Supervisor as the Responsible Official.

FOR FURTHER INFORMATION CONTACT: Terry DeLay, Brush Creek/Hayden Ranger District, PO Box 249, Saratoga, WY 82331, 307-326-2518.

Correction

In the Federal Register of August 22, 2002, in FR Doc. 02-21452, on page 54405, in the third column, correct the “Responsible Official” caption to read:

Responsible Official

Mary H. Peterson, Forest Supervisor, Medicine Bow-Routt National Forests and Thunder Basin National Grassland, 2468 Jackson Street, Laramie, Wyoming 82070, is the official responsible for making the decision on this action. She will document her decision and rationale in a record of decision.

Dated: January 29, 2003.
Richard N. Rine,
Acting Forest Supervisor.

[FR Doc. 03-2777 Filed 2-4-03; 8:45 am]

BILLING CODE 3410-11-M